DEPARTMENT OF HOUSING AND URBAN DEVELOPMENT

[Docket No. FR-5937-FA-01]

Announcement of Tenant Protection Voucher Funding Awards for Fiscal Year 2015 for the Housing Choice Voucher Program

AGENCY: Office of the Assistant Secretary for Public and Indian Housing, HUD.

ACTION: Announcement of fiscal year 2015 funding awards.

SUMMARY: In accordance with Section 102(a)(4)(C) of the Department of Housing and Urban Development Reform Act of 1989, this document notifies the public of Tenant Protection Voucher (TPV) funding awards for Fiscal Year (FY) 2015 to public housing agencies (PHAs) under the Section 8 Housing Choice Voucher Program (HCVP). The purpose of this notice is to publish the names and addresses of awardees, and the amounts of their non-competitive funding awards for assisting households affected by housing conversion actions, public housing relocations and replacements, moderate rehabilitation replacements, and HOPE VI relocations.

FOR FURTHER INFORMATION CONTACT: Milan Ozdinec, Deputy Assistant Secretary, Office of Housing Voucher Programs, Office of Public and Indian Housing, Department of Housing and Urban Development, 451 Seventh Street SW., Room 4204, Washington, DC 20410-5000, telephone (202) 402-1380. Hearing- or speech-impaired individuals may call HUD's TTY number at (800) 927-7589. (Only the “800” telephone number is toll-free.)

SUPPLEMENTARY INFORMATION: The regulations governing the HCVP are published at 24 CFR 982. The purpose of this rental assistance program is to assist eligible families to pay their rent for decent, safe, and sanitary housing. The regulations for allocating housing assistance budget authority under Section 213(d) of the Housing and Community Development Act of 1974 are published at 24 CFR part 791, subpart D.

The FY 2015 awardees announced in this notice were provided HCVP tenant protection vouchers (TPVs) funds on an as-needed, non-competitive basis. TPV awards made to PHAs for program actions that displace families living in public housing were made on a first-come, first-served basis in accordance with PIH Notice 2007-10, “Voucher Funding in Connection with the Demolition or Disposition of Occupied Public Housing Units,” ¹ and PIH Notice 2015-03, “Implementation of the Federal Fiscal Year 2015 Funding Provision for the Housing Choice Voucher Program.” ² Awards for the Rental Assistance Demonstration (RAD) were provided for Rental Supplement and Rental Assistance Payment Projects (RAD—Second Component) consistent with PIH Notice 2012-32 (HA), REV-2, “Rental Assistance Demonstration—Final Implementation, Revision 2.” ³ Announcements of awards provided under the NOFA process for Mainstream, Designated Housing, Family Unification (FUP), and Veterans Assistance Supportive Housing (VASH) programs will be published in a separate Federal Register notice.

¹ PIH Notice 2007-10 is available at: http://portal.hud.gov/hudportal/documents/huddoc?id=DOC_11380.pdf.

² PIH Notice 2015-03 is available at: http://portal.hud.gov/hudportal/documents/huddoc?id=15-03pihn.pdf.

³ PIH Notice 2012-32 (HA), REV-2 is available at: http://portal.hud.gov/hudportal/documents/huddoc?id=PIHNotice_2012-32_062015.pdf.

Awards published under this notice were provided: (1) To assist families living in HUD-owned properties that are being sold; (2) to assist families affected by the expiration or termination of their Project-based Section 8 and Moderate Rehabilitation contracts; (3) to assist families in properties where the owner has prepaid the HUD mortgage; (4) to assist families in projects where the Rental Supplement and Rental Assistance Payments contracts are expiring (RAD—Second Component); (5) to provide relocation housing assistance in connection with the demolition of public housing; (6) to provide replacement housing assistance for single room occupancy (SRO) units that fail housing quality standards (HQS); (7) to assist families in public housing developments that are scheduled for demolition in connection with a HUD-approved HOPE VI revitalization or demolition grant; and (8) to assist families consistent with PIH Notice 2014-13, “Funding for Tenant-Protection Vouchers for Certain At-Risk Households in Low-Vacancy Areas—2014 Appropriations Act” ⁴ and PIH Notice 2015-07, “Funding Availability for Tenant-Protection Vouchers for Certain At-Risk Households in Low-Vacancy Areas—Fiscal Year 2015.” ⁵

⁴ PIH Notice 2014-13 is available at: httpy://portal.hud.gov/hudportal/documents/huddoc?id=pih2014-13.pdf.

⁵ PIH Notice 2015-07 is available at: http://portal.hud.gov/hudportal/documents/huddoc?id=PIH2015-07.pdf.

A special administrative fee of $200 per occupied unit was provided to PHAs to compensate for any extraordinary HCVP administrative costs associated with Multifamily Housing conversion actions.

The Department awarded total new budget authority of $96,743,318 to recipients under all of the above-mentioned categories for 16,515 housing choice vouchers. This budget authority includes $2,312,058 of unobligated commitments made in FY 2014. These funds were reserved by September 30, 2014, but not contracted until FY 2015, and thus have been included with obligated commitments for FY 2015. In accordance with Section 102(a)(4)(C) of the Department of Housing and Urban Development Reform Act of 1989 (103 Stat. 1987, 42 U.S.C. 3545), the Department is publishing the names and addresses of awardees, and their award amounts in Appendix A.

The awardees are listed alphabetically by State and then by PHA name.

Dated: March 18, 2016.
Lourdes Castro Ramirez,
Principal Deputy Assistant Secretary for Public and Indian Housing.

Appendix A

Section 8 Rental Assistance Programs (TPV) Announcement of Awards for Fiscal Year 2015
Housing agency | Address | Units | Award
Special Fees Awarded Related to TPVs
Special Fees—At-Risk Households
CA: CITY OF ANAHEIM HOUSING AUTHORITY | 201 S. ANAHEIM BLVD., STE. 200, ANAHEIM, CA 92805 | 0 | $25,600
MA: BOSTON HOUSING AUTHORITY | 52 CHAUNCY STREET, BOSTON, MA 02111 | 0 | 8,000
MA: QUINCY HOUSING AUTHORITY | 80 CLAY STREET, QUINCY, MA 02170 | 0 | 21,400
MA: PLYMOUTH HOUSING AUTHORITY | P.O.B. 3537, PLYMOUTH, MA 02361 | 0 | 8,400
MI: MICHIGAN STATE HSG. DEV. AUTH | P.O. BOX 30044, LANSING, MI 48909 | 0 | 13,400
MN: ST. PAUL PHA | 555 NORTH WABASHA, SUITE 400, ST. PAUL, MN 55102 | 0 | 2,200
MO: ST. LOUIS COUNTY HOUSING AUTHORITY | 8865 NATURAL BRIDGE, ST. LOUIS, MO 63121 | 0 | 37,200
Total for Special Fees—At-Risk Households |  | 0 | 116,200
Special Fees—Opt-Outs/Terminations
AR: MISSISSIPPI COUNTY PUB FACIL BOARD | 810 WEST KEISER, OSCEOLA, AR 72370 | 0 | 1,600
CA: COUNTY OF SAN BERNARDINO HSG AUTH | 715 E. BRIER DRIVE, SAN BERNARDINO, CA 92408 | 0 | 6,000
CA: CITY OF POMONA | 505 S. GAREY AVENUE, P.O. BOX 660, POMONA, CA 91769 | 0 | 1,000
CA: CITY OF OCEANSIDE COMM DEV COMM | 300 NORTH COAST HIGHWAY, NEVADA STREET ANNEX, OCEANSIDE, CA 92054 | 0 | 2,200
CO: HA OF THE CITY AND COUNTY OF DENVER | 777 GRANT STREET, DENVER, CO 80203 | 0 | 23,600
CT: WATERBURY HOUSING AUTHORITY | 2 LAKEWOOD ROAD, WATERBURY, CT 06704 | 0 | 2,400
CT: CONNECTICUT DEPT OF HOUSING | 505 HUDSON STREET, HARTFORD, CT 06106 | 0 | 5,600
DC: D.C. HOUSING AUTHORITY | 1133 NORTH CAPITOL STREET NE., WASHINGTON, DC 20002 | 0 | 58,200
FL: HA TAMPA | 1514 UNION ST., P.O. BOX 4766, TAMPA, FL 33607 | 0 | 10,400
FL: MIAMI DADE HOUSING AUTHORITY | 701 NW. 1ST COURT, 16TH FLOOR, MIAMI, FL 33136 | 0 | 800
FL: ORANGE CO SECTION 8 | 525 EAST SOUTH STREET, P.O. BOX 38, ORLANDO, FL 32801 | 0 | 3,600
GA: HA MACON | P.O. BOX 4928, 2015 FELTON AVENUE, MACON, GA 31208 | 0 | 22,400
IA: SOUTHERN IOWA REG HSG AUTHORITY | 219 N. PINE, CRESTON, IA 50801 | 0 | 6,400
ID: IDAHO HOUSING AND FINANCE ASSO | 565 W. MYRTLE STREET, P.O. BOX 7899, BOISE, ID 83707 | 0 | 1,400
KS: KANSAS CITY HOUSING AUTHORITY | 1124 NORTH NINTH STREET, KANSAS CITY, KS 66101 | 0 | 21,600
MD: H AUTHORITY OF BALTIMORE CITY | 417 EAST FAYETTE STREET, BALTIMORE, MD 21201 | 0 | 7,600
MD: HSG AUTH PRINCE GEORGE'S COUNTY | 9200 BASIL COURT, 5TH FLOOR, LARGO, MD 20774 | 0 | 5,800
MD: HOWARD COUNTY HOUSING COMMISSION | 6751 COLUMBIA GATEWAY DRIVE, 3RD FLOOR, COLUMBIA, MD 21046 | 0 | 12,200
MN: METROPOLITAN COUNCIL HRA | 390 ROBERT STREET, NORTH, ST. PAUL, MN 55101 | 0 | 9,600
ND: STUTSMAN COUNTY HOUSING AUTHORITY | 217 1ST AVENUE N., JAMESTOWN, ND 58401 | 0 | 600
ND: HOUSING AUTHORITY OF FOSTER COUNTY | 55 16TH AVE. SOUTH, CARRINGTON, ND 58421 | 0 | 4,200
ND: MCHENRY/PIERCE COUNTY H AUTH | 108 BURDICK EXPRESSWAY, MINOT, ND 58701 | 0 | 1,400
NH: KEENE HOUSING AUTHORITY | 831 COURT STREET, KEENE, NH 03431 | 0 | 3,600
NM: BERNALILLO COUNTY HSG DEPT | 1900 BRIDGE BLVD. SW., ALBUQUERQUE, NM 87105 | 0 | 8,000
OH: HENRY MHA | 1044 CHELSEA AVE., NAPOLEON, OH 43545 | 0 | 6,000
OK: OKLAHOMA HOUSING FINANCE AGENCY | P.O. BOX 26720, 100 NW. 63RD ST., SUITE 200, OKLAHOMA CITY, OK 73126 | 0 | 19,200
PA: ALLENTOWN HOUSING AUTHORITY | 1339 ALLEN STREET, ALLENTOWN, PA 18102 | 0 | 4,000
PA: JOHNSTOWN HOUSING AUTHORITY | 501 CHESTNUT ST., P.O. BOX 419, JOHNSTOWN, PA 15907 | 0 | 3,600
RQ: PUERTO RICO HOUSING FINANCE CORP | CALL BOX 71361—GPO, SAN JUAN, PR 00936 | 0 | 15,200
SC: CITY OF SPARTANBURG H/A | P.O. BOX 2828, SPARTANBURG, SC 29304 | 0 | 4,000
TN: MEMPHIS HOUSING AUTHORITY | P.O. BOX 3664, MEMPHIS, TN 38103 | 0 | 4,400
TN: METROPOLITAN DEVE & HSG AGNCY | 701 SOUTH SIXTH STREET, P.O. BOX 846, NASHVILLE, TN 37202 | 0 | 22,000
TX: HOUSING AUTHORITY OF EL PASO | 5300 PAISANO, EL PASO, TX 79905 | 0 | 1,200
TX: CORPUS CHRISTI HOUSING AUTHORITY | 3701 AYERS STREET, CORPUS CHRISTI, TX 78415 | 0 | 13,200
TX: HOUSING AUTHORITY OF WACO | 4400 COBBS DRIVE, WACO, TX 76703 | 0 | 19,200
TX: GRAND PRAIRIE HSNG & COMM DEV | P.O. BOX 534045, 201 NW. 2ND. ST., SUITE 150, GRAND PRAIRIE, TX 75053 | 0 | 17,000
WA: SEATTLE HOUSING AUTHORITY | 120 SIXTH AVENUE NORTH, P.O. BOX 19028, SEATTLE, WA 98109 | 0 | 400
WA: KING COUNTY HOUSING AUTHORITY | 600 ANDOVER PARK WEST, SEATTLE, WA 98188 | 0 | 8,000
WA: HOU AUTHORITY OF SNOHOMISH COUNTY | 12625 4TH AVE. W., SUITE 200, EVERETT, WA 98204 | 0 | 8,800
WI: DUNN COUNTY HA | 1421 STOUT ROAD, MENOMONIE, WI 54751 | 0 | 1,200
WI: WISCONSIN HOUSING & ECONOMIC DEVELOPMENT AUTHORITY | P.O. BOX 1728, MADISON, WI 53701 | 0 | 1,000
WV: PARKERSBURG HOUSING AUTHORITY | 1901 CAMERON AVENUE, PARKERSBURG, WV 26101 | 0 | 5,000
WV: JACKSON HOUSING AUTHORITY | WHISPERING WAY—TANGLEWOOD VILL, RIPLEY, WV 25271 | 0 | 600
WY: H AUTH OF THE CITY OF CHEYENNE | 3304 SHERIDAN AVENUE, CHEYENNE, WY 82009 | 0 | 1,800
Total for Special Fees—Opt-Outs/Terminations |  | 0 | 376,000
Special Fees—Prepays
AR: FORT SMITH | 2100 NORTH 31ST STREET, FORT SMITH, AR 72904 | 0 | 13,000
CA: SAN FRANCISCO HSG AUTH | 1815 EGBERT AVE., SAN FRANCISCO, CA 94124 | 0 | 31,200
CA: OAKLAND HOUSING AUTHORITY | 1619 HARRISON ST., OAKLAND, CA 94612 | 0 | 8,800
CA: TULARE COUNTY HOUSING AUTH | 5140 W. CYPRESS AVE., P.O. BOX 791, VISALIA, CA 93279 | 0 | 2,400
CA: CITY OF LONG BEACH HSG AUTH | 521 E. 4TH STREET, LONG BEACH, CA 90802 | 0 | 58,600
CA: CITY OF SANTA MONICA | 1901 MAIN ST., STE. A, SANTA MONICA, CA 90405 | 0 | 15,000
CO: LOVELAND HOUSING AUTHORITY | 375 W. 37TH ST., #200, LOVELAND, CO 80538 | 0 | 14,200
IL: CHICAGO HOUSING AUTHORITY | 60 EAST VAN BUREN ST., 11TH FLOOR, CHICAGO, IL 60605 | 0 | 45,800
IL: HOUSING AUTHORITY OF COOK COUNTY | 175 WEST JACKSON BOULEVARD, SUITE 350, CHICAGO, IL 60604 | 0 | 64,800
IL: ELGIN HA | 120 SOUTH STATE STREET, ELGIN, IL 60123 | 0 | 1,400
IL: DUPAGE COUNTY HOUSING AUTHORITY | 711 EAST ROOSEVELT ROAD, WHEATON, IL 60187 | 0 | 8,400
IN: EAST CHICAGO HA | 4920 LARKSPUR DR., P.O. BOX 498, EAST CHICAGO, IN 46312 | 0 | 600
KY: LEXINGTON FAYETTE URBAN HOUSING | 300 NEW CIRCLE ROAD, LEXINGTON, KY 40505 | 0 | 8,000
KY: PADUCAH HOUSING AUTHORITY | 300 SOUTH FIFTH STREET, POST OFFICE BOX 2267, PADUCAH, KY 42002 | 0 | 8,400
MA: CAMBRIDGE HOUSING AUTHORITY | 675 MASSACHUSETTS AVENUE, CAMBRIDGE, MA 02139 | 0 | 60,000
MA: QUINCY HOUSING AUTHORITY | 80 CLAY STREET, QUINCY, MA 02170 | 0 | 67,000
MA: BROOKLINE HOUSING AUTHORITY | 90 LONGWOOD AVE, BROOKLINE, MA 02146 | 0 | 20,000
MD: HOU AUTHORITY OF BALTIMORE CITY | 417 EAST FAYETTE STREET, BALTIMORE, MD 21201 | 0 | 9,600
MN: ST PAUL PHA | 555 NORTH WABASHA, SUITE 400, ST. PAUL, MN 55102 | 0 | 4,000
MS: MISS REG HA II | P.O. BOX 1887, OXFORD, MS 38655 | 0 | 14,600
MT: MT DEPARTMENT OF COMMERCE | P.O.B. 200545, 301 S. PARK, HELENA, MT 59620 | 0 | 6,000
NJ: LAKEWOOD HOUSING AUTHORITY | 317 SAMPSON AVENUE, LAKEWOOD, NJ 08701 | 0 | 14,400
NY: TOWN OF AMHERST | C/O BELMONT HOUSING RESOURCES, 1195 MAIN STREET, BUFFALO, NY 14209 | 0 | 49,200
NY: THE CITY OF NEW YORK DEPT OF HSG | 501, NEW YORK, NY 10038 | 0 | 60,000
OH: TRUMBULL MHA | 4076 YOUNGSTOWN ROAD SE., WARREN, OH 44484 | 0 | 13,200
OH: LORAIN MHA | 1600 KANSAS AVENUE, LORAIN, OH 44052 | 0 | 6,400
OH: MEDINA MHA | 850 WALTER ROAD, MEDINA, OH 44256 | 0 | 10,600
PA: HOUSING AUTH CO OF LAWRENCE | 481 NESHANNOCK AVE., P.O. BOX 988, NEW CASTLE, PA 16103 | 0 | 200
PA: FRANKLIN CITY HOUSING AUTHORITY | 1212 CHESTNUT STREET, FRANKLIN, PA 16323 | 0 | 4,800
VA: NEWPORT NEWS REDEVELOPMENT & HA | P.O. BOX 797, NEWPORT NEWS, VA 23607 | 0 | 18,600
WI: WISCONSIN HOUSING & ECONOMIC DEVELOPMENT AUTHORITY | P.O. BOX 1728, MADISON, WI 53701 | 0 | 3,000
Total for Special Fees—Prepays. |  | 0 | 642,200
Special Fees—RAD Conversions
CA: CITY OF LONG BEACH HSG AUTH | 521 E. 4TH STREET, LONG BEACH, CA 90802 | 0 | 27,800
IL: DECATUR HOUSING AUTHORITY | 1808 EAST LOCUST STREET, DECATUR, IL 62521 | 0 | 21,800
IL: HOUSING AUTHORITY OF JOLIET | 6 SOUTH BROADWAY STREET, JOLIET, IL 60436 | 0 | 35,200
IL: MENARD COUNTY HOUSING AUTHORITY | 101 W. SHERIDAN ROAD, PETERSBURG, IL 62675 | 0 | 15,600
IL: KANKAKEE COUNTY HOUSING AUTHORITY | 185 NORTH ST. JOSEPH AVENUE, KANKAKEE, IL 60901 | 0 | 23,800
IL: WINNEBAGO COUNTY H AUTHORITY | 3617 DELAWARE STREET, ROCKFORD, IL 61102 | 0 | 22,200
IL: AURORA HOUSING AUTHORITY | 1630 WEST PLUM STREET, AURORA, IL 60506 | 0 | 102,000
LA: SHREVEPORT HSG AUTHORITY | 2500 LINE AVENUE, SHREVEPORT, LA 71104 | 0 | 3,600
MA: BOSTON HOUSING AUTHORITY | 52 CHAUNCY STREET, BOSTON, MA 02111 | 0 | 11,800
MA: CAMBRIDGE HOUSING AUTHORITY | 675 MASSACHUSETTS AVENUE, CAMBRIDGE, MA 02139 | 0 | 62,600
MA: WORCESTER HOUSING AUTHORITY | 40 BELMONT STREET, WORCESTER, MA 01605 | 0 | 230,800
MA: BROOKLINE HOUSING AUTHORITY | 90 LONGWOOD AVE., BROOKLINE, MA 02146 | 0 | 20,000
MA: SALEM HOUSING AUTHORITY | 27 CHARTER STREET, SALEM, MA 01970 | 0 | 50,000
MA: COMM DEV PROG COMM OF MA. E.O.C.D | 100 CAMBRIDGE STREET, BOSTON, MA 02114 | 0 | 79,000
MD: BALTIMORE CO. HOUSING OFFICE | 6401 YORK ROAD, 1ST FLOOR, BALTIMORE, MD 21212 | 0 | 36,400
MI: MICHIGAN STATE HSG. DEV. AUTH | P.O. BOX 30044, LANSING, MI 48909 | 0 | 53,000
NJ: NEWARK HOUSING AUTHORITY | 500 BROAD STREET, NEWARK, NJ 07102 | 0 | 18,600
NJ: JERSEY CITY HOUSING AUTHORITY | 400 US HIGHWAY #1, JERSEY CITY, NJ 07306 | 0 | 58,800
NJ: PATERSON HOUSING AUTHORITY | 60 VAN HOUTEN STREET, PATERSON, NJ 07505 | 0 | 95,600
NJ: RAHWAY HOUSING AUTHORITY | 165 GRAND AVENUE, RAHWAY, NJ 07065 | 0 | 3,800
NJ: LAKEWOOD HOUSING AUTHORITY | 317 SAMPSON AVENUE, LAKEWOOD, NJ 08701 | 0 | 4,800
NJ: MIDDLETOWN HOUSING AUTHORITY | 2 OAKDALE DRIVE PLAZA, MIDDLETOWN, NJ 07748 | 0 | 16,400
NJ: NEW JERSEY DEPARTMENT OF COMMUNITY | 101 SOUTH BROAD STREET, POST OFFICE BOX 051, TRENTON, NJ 08625 | 0 | 143,800
NY: ALBANY HOUSING AUTHORITY | 200 SOUTH PEARL, ALBANY, NY 12202 | 0 | 24,800
NY: HA OF ROCHESTER | 675 WEST MAIN STREET, ROCHESTER, NY 14611 | 0 | 56,200
NY: THE CITY OF NEW YORK | 501, NEW YORK, NY 10038 | 0 | 105,000
NY: CITY OF POUGHKEEPSIE MUNICIPAL BLDG | MEMORIAL SQUARE, P.O. BOX 300, POUGHKEEPSIE, NY 12602 | 0 | 27,200
NY: NYS HSG TRUST FUND CORPORATION | 38-40 STATE STREET, ALBANY, NY 12207 | 0 | 234,000
PA: ALLEGHENY COUNTY H AUTHORITY | 625 STANWIX ST., 12TH FLOOR, PITTSBURGH, PA 15222 | 0 | 30,400
VA: FAIRFAX CO RED AND HNG AUTHORITY | 3700 PENDER DRIVE, SUITE 300, FAIRFAX, VA 22030 | 0 | 21,600
VA: ARLINGTON CO DEPT OF HUMAN | 2100 WASHINGTON BLVD., ARLINGTON, VA 22204 | 0 | 8,400
WI: RACINE COUNTY HA | 837 MAIN STREET, RACINE, WI 53403 | 0 | 15,600
WI: WISCONSIN HOUSING & ECONOMIC DEVELOPMENT AUTHORITY | P.O. BOX 1728, MADISON, WI 53701 | 0 | 14,200
Total for Special Fees—RAD Conversions |  | 0 | 1,674,800
Special Fees—Relocation—Rent Supplement
MA: FALL RIVER HSG AUTHORITY | 85 MORGAN ST., P.O. BOX 989, FALL RIVER, MA 02722 | 0 | 5,600
MA: ATTLEBORO HSG AUTHORITY | 37 CARLON ST., ATTLEBORO, MA 02703 | 0 | 20,000
MA: COMM DEV PROG COMM OF MA. E.O.C.D. | 100 CAMBRIDGE STREET, BOSTON, MA 02114 | 0 | 22,400
NY: H AUTHORITY OF NORTH SYRACUSE | 201-205A, NORTH SYRACUSE, NY 13212 | 0 | 2,400
Total for Special Fees—Relocation—Rent Supplement |  | 0 | 50,400
Total for Special Fees for TPVs |  | 0 | 2,859,600
Public Housing and Mod Rehab Replacements TPVs
Mod Rehab Replacements
CA: COUNTY OF SAN MATEO HSG AUTH | 264 HARBOR BLVD., BLDG. A, BELMONT, CA 94002 | 130 | 1,607,674
CA: SAN DIEGO HOUSING COMMISSION | 1122 BROADWAY, SUITE 300, SAN DIEGO, CA 92101 | 10 | 101,198
DC: D.C HOUSING AUTHORITY | 1133 NORTH CAPITOL STREET NE., WASHINGTON, DC 20002 | 2 | 12,656
FL: MIAMI DADE HOUSING AUTHORITY | 701 NW. 1ST COURT, 16TH FLOOR, MIAMI, FL 33136 | 67 | 621,524
MD: H AUTHORITY OF BALTIMORE CITY | 417 EAST FAYETTE STREET, BALTIMORE, MD 21201 | 33 | 282,645
MD: MARYLAND DEPT OF HSG & COMMUNITY | 100 COMMUNITY PLACE, CROWNSVILLE, MD 21032 | 1 | 7,729
MO: ST. LOUIS COUNTY HOUSING AUTHORITY | 8865 NATURAL BRIDGE, ST. LOUIS, MO 63121 | 7 | 44,101
MT: MT DEPARTMENT OF COMMERCE | P.O.B. 200545, 301 S. PARK, HELENA, MT 59620 | 8 | 39,612
ND: RAMSEY COUNTY HOUSING AUTHORITY | BOX 691, DEVILS LAKE, ND 58301 | 5 | 19,165
NJ: NEW JERSEY DEP OF COMMUNITY AFFAIRS | 101 SOUTH BROAD STREET, POST OFFICE BOX 051, TRENTON, NJ 08625 | 95 | 939,096
NY: THE CITY OF NEW YORK | 100 GOLD STREET, ROOM 501, NEW YORK, NY 10038 | 62 | 729,291
NY: CITY OF BUFFALO C/O RENTAL ASST CORP | 470 FRANKLIN ST., BUFFALO, NY 14202 | 2 | 9,739
PA: WESTMORELAND COUNTY HSG AUTH | R.D. #6, BOX 223, SOUTH GREENGATE RD., GREENSBURG, PA 15601 | 1 | 5,474
TN: HSG DEV AGENCY ELIZABETHTON | P.O. BOX 637, ELIZABETHTON, TN 37644 | 9 | 38,292
UT: HA OF CITY OF OGDEN | 1100 GRANT AVE., OGDEN, UT 84404 | 14 | 74,011
UT: HOUSING AUTHORITY OF SALT LAKE CITY | 1776 SW. TEMPLE, SALT LAKE CITY, UT 84115 | 30 | 209,632
Total for Mod Rehab Replacements |  | 476 | 4,741,839
Mod Rehab Replacements (RAD)
MA: COMM DEV PROG COMM OF MA. E.O.C.D | 100 CAMBRIDGE STREET, BOSTON, MA 02114 | 81 | 655,776
MA: COMM DEV PROG COMM OF MA. E.O.C.D | 100 CAMBRIDGE STREET, BOSTON, MA 02114 | 94 | 259,361
Total for Mod Rehab Replacements for RAD |  | 175 | 915,137
MTW Relocation/Replacement
CO: BOULDER CITY HSG AUTH | 4800 BROADWAY, BOULDER, CO 80304 | 95 | 337,479
GA: HA COLUMBUS GA GEN FUND ACCT CONSL | P.O. BOX 630, COLUMBUS, GA 31902 | 340 | 953,227
MA: CAMBRIDGE HOUSING AUTHORITY | 675 MASSACHUSETTS AVENUE, CAMBRIDGE, MA 02139 | 297 | 574,672
WA: SEATTLE HOUSING AUTHORITY | 120 SIXTH AVENUE NORTH P.O. BOX 19028, SEATTLE, WA 98109 | 109 | 5
Total for MTW Relocation/Replacement |  | 841 | 1,865,383
Relocation—Sunset
CT: ANSONIA HOUSING AUTHORITY | 36 MAIN STREET, ANSONIA, CT 06401 | 16 | 61,772
Total for Relocation—Sunset |  | 16 | 61,772
Replacement
CA: CITY OF RICHMOND HSG AUTH | 330 24TH ST., RICHMOND, CA 94808 | 101 | 885,274
CO: AURORA HOUSING AUTHORITY | 10745 E KENTUCKY AVENUE, AURORA, CO 80012 | 65 | 256,170
CT: BRIDGEPORT HOUSING AUTHORITY | 150 HIGHLAND AVENUE, BRIDGEPORT, CT 06604 | 225 | 1,001,242
CT: MERIDEN HOUSING AUTHORITY | 22 CHURCH STREET, MERIDEN, CT 06450 | 23 | 57,316
CT: ANSONIA HOUSING AUTHORITY | 36 MAIN STREET, ANSONIA, CT 06401 | 38 | 130,583
FL: HA WEST PALM BEACH GENERAL FUND | 1715 DIVISION AVENUE, WEST PALM BEACH, FL 33407 | 49 | 294,826
IN: GARY HA | 578 BROADWAY, GARY, IN 46402 | 45 | 52,340
MN: METROPOLITAN COUNCIL HRA | 390 ROBERT STREET NORTH, ST. PAUL, MN 55101 | 98 | 196,421
NJ: CAMDEN HOUSING AUTHORITY | 1300 ADMIRAL WILSON BLVD. P.O. BOX 1426, CAMDEN, NJ 08101 | 33 | 286,775
NY: THE MUNI HOUSING AUTHORITY CITY OF | 1511 CENTRAL PARK AVE., P.O. BOX 35, YONKERS, NY 10710 | 35 | 284,571
NY: HA OF NEW ROCHELLE | 50 SICKLES AVENUE, NEW ROCHELLE, NY 10801 | 52 | 378,957
TN: HA MURFREESBORO | 415 NORTH MAPLE STREET, MURFREESBORO, TN 37130 | 110 | 181,676
VA: BRISTOL REDEVELOPMENT & HA | 809 EDMOND STREET, BRISTOL, VA 24201 | 39 | 66,673
WA: HSG AUTHORITY OF SNOHOMISH COUNTY | 12625 4TH AVE. W. SUITE 200, EVERETT, WA 98204 | 209 | 608,956
Total for Replacement |  | 1,122 | 4,681,780
TPVs—HOPE VI
CO: HSG AUT OF THE CITY AND COUNTY OF | 777 GRANT STREET, DENVER, CO 80203 | 23 | 94,450
Total for TPVs—HOPE VI |  | 23 | 94,450
Witness Relocation Assistance
CT: MILFORD REDE & HOUSING PARTNERSHIP | 75 DEMAIO DRIVE, P.O. BOX 291, MILFORD, CT 06460 | 1 | 17,070
Total for Witness Relocation Assistance |  | 1 | 17,070
Total for Public Housing TPVs |  | 2,654 | 12,377,431
Multifamily Housing TPVs
Certain At-Risk Households Low Vacancy
CA: CITY OF ANAHEIM HOUSING AUTHORITY | 201 S. ANAHEIM BLVD., STE. 200, ANAHEIM, CA 92805 | 128 | 934,287
CT: CONNECTICUT DEPT OF HOUSING | 505 HUDSON STREET, HARTFORD, CT 06106 | 0 | 103,348
FL: MIAMI DADE HOUSING AUTHORITY | 701 NW. 1ST COURT, 16TH FLOOR, MIAMI, FL 33136 | 0 | 132,708
MA: PLYMOUTH HOUSING AUTHORITY | P.O.B. 3537, PLYMOUTH, MA 02361 | 42 | 246,590
MI: MICHIGAN STATE HSG. DEV. AUTH | P.O. BOX 30044, LANSING, MI 48909 | 67 | 313,035
MN: ST PAUL PHA | 555 NORTH WABASHA, SUITE 400, ST. PAUL, MN 55102 | 11 | 71,773
MO: ST. LOUIS COUNTY HOUSING AUTHORITY | 8865 NATURAL BRIDGE, ST. LOUIS, MO 63121 | 186 | 585,911
Total for Certain At-Risk Households Low Vacancy |  | 434 | 2,387,652
New Housing Conversion Rent Supplement
MA: FALL RIVER HSG AUTHORITY | 85 MORGAN ST., P.O. BOX 989, FALL RIVER, MA 02722 | 28 | 96,303
MA: ATTLEBORO HSG AUTHORITY | 37 CARLON ST., ATTLEBORO, MA 02703 | 100 | 757,125
MA: COMM DEV PROG COMM OF MA. E.O.C.D | 100 CAMBRIDGE STREET, BOSTON, MA 02114 | 112 | 741,888
NY: HSG AUTHORITY OF NORTH SYRACUSE | 201 SOUTH MAIN STREET, SUITE 205A, NORTH SYRACUSE, NY 13212 | 12 | 42,047
Total for New Housing Conversion Rent Supplement |  | 252 | 1,637,363
Prepayment—RAD
IL: HOUSING AUTHORITY OF JOLIET | 6 SOUTH BROADWAY STREET, JOLIET, IL 60436 | 176 | 1,474,729
IL: MENARD COUNTY HOUSING AUTHORITY | 101 W. SHERIDAN ROAD, PETERSBURG, IL 62675 | 78 | 228,815
IL: KANKAKEE COUNTY HOUSING AUTHORITY | 185 NORTH ST. JOSEPH AVENUE, KANKAKEE, IL 60901 | 119 | 352,488
IL: WINNEBAGO COUNTY HSG AUTHORITY | 3617 DELAWARE STREET, ROCKFORD, IL 61102 | 111 | 338,642
IL: AURORA HOUSING AUTHORITY | 1630 WEST PLUM STREET, AURORA, IL 60506 | 510 | 2,348,397
MA: CAMBRIDGE HOUSING AUTHORITY | 675 MASSACHUSETTS AVENUE, CAMBRIDGE, MA 02139 | 313 | 2,469,645
MA: WORCESTER HOUSING AUTHORITY | 40 BELMONT STREET, WORCESTER, MA 01605 | 1,154 | 8,192,477
MA: BROOKLINE HOUSING AUTHORITY | 90 LONGWOOD AVE., BROOKLINE, MA 02146 | 100 | 1,075,404
MA: SALEM HOUSING AUTHORITY | 27 CHARTER STREET, SALEM, MA 01970 | 250 | 2,589,090
MD: BALTIMORE CO. HSG OFFICE | 6401 YORK ROAD, 1ST FLOOR, BALTIMORE, MD 21212 | 182 | 1,725,513
MI: MICHIGAN STATE HSG. DEV. AUTH. | P.O. BOX 30044, LANSING, MI 48909 | 265 | 1,650,833
NJ: JERSEY CITY HOUSING AUTHORITY | 400 US HIGHWAY #1, JERSEY CITY, NJ 07306 | 195 | 775,564
NJ: MIDDLETOWN HOUSING AUTHORITY | 2 OAKDALE DRIVE PLAZA, MIDDLETOWN, NJ 07748 | 82 | 439,489
NJ: NEW JERSEY DEP OF COMM AFFAIRS | 101 SOUTH BROAD STREET, POST OFFICE BOX 051, TRENTON, NJ 08625 | 125 | 1,029,525
NY: HA OF ROCHESTER | 675 WEST MAIN STREET, ROCHESTER, NY 14611 | 281 | 378,988
NY: THE CITY OF NEW YORK | 100 GOLD STREET, ROOM 501, NEW YORK, NY 10038 | 525 | 3,193,344
NY: CITY OF POUGHKEEPSIE MUNICIPAL BLDG | MEMORIAL SQUARE, P.O. BOX 300, POUGHKEEPSIE, NY 12602 | 136 | 497,556
NY: NYS HSG TRUST FUND CORPORATION | 38-40 STATE STREET, ALBANY, NY 12207 | 1,163 | 5,297,303
VA: FAIRFAX CO RED AND HNG AUTHORITY | 3700 PENDER DRIVE, SUITE 300, FAIRFAX, VA 22030 | 108 | 706,761
VA: ARLINGTON CO DEPT OF HUMAN | 2100 WASHINGTON BLVD., ARLINGTON, VA 22204 | 42 | 244,115
WI: RACINE COUNTY HA | 837 MAIN STREET, RACINE, WI 53403 | 78 | 195,460
WI: WISCONSIN HOUSING & ECONOMIC DEVELOPMENT AUTHORITY | P.O. BOX 1728, MADISON, WI 53701 | 71 | 175,534
Total for Prepayment—RAD |  | 6,064 | 35,379,672
Pre-Payment Vouchers
AR: FORT SMITH | 2100 NORTH 31ST STREET, FORT SMITH, AR 72904 | 65 | 211,571
CA: SAN FRANCISCO HSG AUTH | 1815 EGBERT AVE., SAN FRANCISCO, CA 94124 | 156 | 2,345,728
CA: OAKLAND HOUSING AUTHORITY | 1619 HARRISON ST., OAKLAND, CA 94612 | 44 | 296,992
CA: TULARE COUNTY HOUSING AUTH | 5140 W. CYPRESS AVE., P.O. BOX 791, VISALIA, CA 93279 | 12 | 79,173
CA: CITY OF LONG BEACH HSG AUTH | 521 E. 4TH STREET, LONG BEACH, CA 90802 | 293 | 1,730,101
CA: CITY OF SANTA MONICA | 1901 MAIN ST., STE. A, SANTA MONICA, CA 90405 | 75 | 308,892
CO: LOVELAND HOUSING AUTHORITY | 375 W. 37TH ST, #200, LOVELAND, CO 80538 | 71 | 290,894
IL: CHICAGO HOUSING AUTHORITY | 60 EAST VAN BUREN ST, 11TH FLOOR, CHICAGO, IL 60605 | 229 | 1,204,777
IL: HOUSING AUTHORITY OF COOK COUNTY | 175 WEST JACKSON BOULEVARD, SUITE 350, CHICAGO, IL 60604 | 24 | 119,522
IL: ELGIN HA | 120 SOUTH STATE STREET, ELGIN, IL 60123 | 7 | 44,685
IL: DUPAGE COUNTY HOUSING AUTHORITY | 711 EAST ROOSEVELT ROAD, WHEATON, IL 60187 | 42 | 268,239
IN: EAST CHICAGO HA | 4920 LARKSPUR DR, P.O. BOX 498, EAST CHICAGO, IN 46312 | 3 | 13,466
KY: LEXINGTON FAYETTE URBAN COUNTY | 300 NEW CIRCLE ROAD, LEXINGTON, KY 40505 | 40 | 132,538
KY: PADUCAH HOUSING AUTHORITY | 300 SOUTH FIFTH STREET, POST OFFICE BOX 2267, PADUCAH, KY 42002 | 42 | 159,934
MA: CAMBRIDGE HOUSING AUTHORITY | 675 MASSACHUSETTS AVENUE, CAMBRIDGE, MA 02139 | 300 | 2,878,623
MA: QUINCY HOUSING AUTHORITY | 80 CLAY STREET, QUINCY, MA 02170 | 335 | 2,399,784
MA: BROOKLINE HOUSING AUTHORITY | 90 LONGWOOD AVE., BROOKLINE, MA 02146 | 207 | 4,250,695
MD: HSG AUTHORITY OF BALTIMORE CITY | 417 EAST FAYETTE STREET, BALTIMORE, MD 21201 | 48 | 205,560
MN: ST PAUL PHA | 555 NORTH WABASHA, SUITE 400, ST. PAUL, MN 55102 | 20 | 38,974
MS: MISS REG H A II | P.O. BOX 1887, OXFORD, MS 38655 | 73 | 176,193
MT: MT DEPARTMENT OF COMMERCE | POB 200545 301 S. PARK, HELENA, MT 59620 | 30 | 86,134
NJ: JERSEY CITY HOUSING AUTHORITY | 400 US HIGHWAY #1, JERSEY CITY, NJ 07306 | 305 | 2,162,033
NJ: LAKEWOOD HOUSING AUTHORITY | 317 SAMPSON AVENUE, LAKEWOOD, NJ 08701 | 72 | 568,774
NY: TOWN OF AMHERST C/O BELMONT HSG RESOURCES | 1195 MAIN STREET, BUFFALO, NY 14209 | 246 | 837,711
NY: THE CITY OF NEW YORK | 100 GOLD STREET, ROOM 501, NEW YORK, NY 10038 | 300 | 882,207
OH: TRUMBULL MHA | 4076 YOUNGSTOWN ROAD SE., WARREN, OH 44484 | 66 | 155,470
OH: LORAIN MHA | 1600 KANSAS AVENUE, LORAIN, OH 44052 | 32 | 193,920
OH: MEDINA MHA | 850 WALTER ROAD, MEDINA, OH 44256 | 53 | 135,996
PA: ALLEGHENY COUNTY HSG AUTHORITY | 625 STANWIX ST., 12TH FLOOR, PITTSBURGH, PA 15222 | 0 | 29,164
PA: HOUSING AUTH CO OF LAWRENCE | 481 NESHANNOCK AVE., P.O. BOX 988, NEW CASTLE, PA 16103 | 1 | 1,931
PA: FRANKLIN CITY HOUSING AUTHORITY | 1212 CHESTNUT STREET, FRANKLIN, PA 16323 | 24 | 44,437
VA: NEWPORT NEWS REDEVELOPMENT & HA | P.O. BOX 797, NEWPORT NEWS, VA 23607 | 93 | 290,244
VA: ROANOKE REDEVELOPMENT & H/A | P.O. BOX 6359 2624 SALEM TRNPK. NW., ROANOKE, VA 24017 | 0 | 142,587
WI: WISCONSIN HOUSING & ECONOMIC DEVELOPMENT AUTHORITY | P.O. BOX 1728, MADISON, WI 53701 | 15 | 69,754
Total for Pre-payment Vouchers |  | 3,323 | 22,756,703
RAD—Conversion Assistance
NJ: PATERSON HOUSING AUTHORITY | 60 VAN HOUTEN STREET, PATERSON, NJ 07505 | 308 | 1,971,015
NJ: NEW JERSEY DEP OF COMM AFFAIRS | 101 SOUTH BROAD STREET POST OFFICE BOX 051, TRENTON, NJ 08625 | 153 | 882,097
Total for RAD—Conversion Assistance |  | 461 | 2,853,112
Rent Supplement—RAD
CA: CITY OF LONG BEACH HSG AUTH | 521 E. 4TH STREET, LONG BEACH, CA 90802 | 139 | 1,474,829
IL: DECATUR HOUSING AUTHORITY | 1808 EAST LOCUST STREET, DECATUR, IL 62521 | 109 | 275,733
LA: SHREVEPORT HSG AUTHORITY | 2500 LINE AVENUE, SHREVEPORT, LA 71104 | 18 | 84,097
MA: COMM DEV PROG COMM OF MA. E.O.C.D | 100 CAMBRIDGE STREET, BOSTON, MA 02114 | 314 | 1,386,624
NJ: NEWARK HOUSING AUTHORITY | 500 BROAD STREET, NEWARK, NJ 07102 | 93 | 777,699
NJ: JERSEY CITY HOUSING AUTHORITY | 400 US HIGHWAY #1, JERSEY CITY, NJ 07306 | 99 | 477,511
NJ: PATERSON HOUSING AUTHORITY | 60 VAN HOUTEN STREET, PATERSON, NJ 07505 | 170 | 1,680,149
NJ: RAHWAY HOUSING AUTHORITY | 165 GRAND AVENUE, RAHWAY, NJ 07065 | 19 | 84,116
NJ: LAKEWOOD HOUSING AUTHORITY | 317 SAMPSON AVENUE, LAKEWOOD, NJ 08701 | 24 | 166,887
NJ: NEW JERSEY DEP OF COMM AFFAIRS | 101 SOUTH BROAD STREET, POST OFFICE BOX 051, TRENTON, NJ 08625 | 441 | 2,179,298
NY: ALBANY HOUSING AUTHORITY | 200 SOUTH PEARL, ALBANY, NY 12202 | 124 | 190,869
NY: NYS HSG TRUST FUND CORPORATION | 38-40 STATE STREET, ALBANY, NY 12207 | 0 | 520,418
Total for Rent Supplement—RAD |  | 1,550 | 9,298,230
Termination/Opt-out Vouchers
AR: MISSISSIPPI COUNTY PUBLIC FACI BOARD | 810 WEST KEISER, OSCEOLA, AR 72370 | 8 | 22,543
CA: COUNTY OF SAN BERNARDINO HSG AUTH | 715 E. BRIER DRIVE, SAN BERNARDINO, CA 92408 | 30 | 82,057
CA: CITY OF POMONA | 505 S. GAREY AVENUE, P.O. BOX 660, POMONA, CA 91769 | 5 | 38,230
CA: CITY OF OCEANSIDE COMM | 300 NORTH COAST HIGH NEVADA STREET ANNEX, OCEANSIDE, CA 92054 | 11 | 85,183
CO: HSG AUTH OF THE CITY AND COUNTY OF | 777 GRANT STREET, DENVER, CO 80203 | 0 | 445,804
CT: WATERBURY HOUSING AUTHORITY | 2 LAKEWOOD ROAD, WATERBURY, CT 06704 | 12 | 88,275
CT: CONNECTICUT DEPT OF HOUSING | 505 HUDSON STREET, HARTFORD, CT 06106 | 28 | 89,621
DC: D.C. HOUSING AUTHORITY | 1133 NORTH CAPITOL STREET NE., WASHINGTON, DC 20002 | 291 | 457,775
FL: HA TAMPA | 1514 UNION ST., P.O. BOX 4766, TAMPA, FL 33607 | 52 | 219,299
FL: MIAMI DADE HOUSING AUTHORITY | 701 NW. 1ST COURT, 16TH FLOOR, MIAMI, FL 33136 | 4 | 24,834
FL: ORANGE CO SECTION 8 | 525 EAST SOUTH STREET, P.O. BOX 38, ORLANDO, FL 32801 | 18 | 92,966
GA: HA MACON | P.O. BOX 4928, 2015 FELTON AVENUE, MACON, GA 31208 | 112 | 611,762
IA: SOUTHERN IOWA REG HSG AUTHORITY | 219 N. PINE, CRESTON, IA 50801 | 32 | 63,433
ID: IDAHO HSG AND FINANCE ASSOCIATION | 565 W. MYRTLE STREET, P.O. BOX 7899, BOISE, ID 83707 | 0 | 14,016
KS: KANSAS CITY HOUSING AUTHORITY | 1124 NORTH NINTH STREET, KANSAS CITY, KS 66101 | 108 | 502,728
MD: HSG AUTHORITY OF BALTIMORE CITY | 417 EAST FAYETTE STREET, BALTIMORE, MD 21201 | 38 | 135,613
MD: HSG AUTH PRINCE GEORGE'S COUNTY | 9200 BASIL COURT, 5TH FLOOR, LARGO, MD 20774 | 29 | 342,441
MD: HOWARD COUNTY HOUSING COMMISSION | 6751 COLUMBIA GATEWAY DRIVE, 3RD FLOOR, COLUMBIA, MD 21046 | 61 | 395,964
MN: METROPOLITAN COUNCIL HRA | 390 ROBERT STREET NORTH, ST. PAUL, MN 55101 | 48 | 352,757
NC: GREENSBORO HOUSING AUTHORITY | P.O. BOX 21287, GREENSBORO, NC 27420 | 0 | 8,676
ND: STUTSMAN COUNTY HOUSING AUTHORITY | 217 1ST AVENUE N., JAMESTOWN, ND 58401 | 3 | 5,894
ND: HOUSING AUTHORITY OF FOSTER COUNTY | 55 16TH AVE. SOUTH, CARRINGTON, ND 58421 | 21 | 26,980
ND: MCHENRY/PIERCE COUNTY HSG AUTH | C/O MINOT HOUSING AUTH, 108 BURDICK EXPRESSWAY, MINOT, ND 58701 | 7 | 27,559
NH: KEENE HOUSING AUTHORITY | 831 COURT STREET, KEENE, NH 03431 | 18 | 95,070
NM: BERNALILLO COUNTY HSG DEPT | 1900 BRIDGE BLVD. SW., ALBUQUERQUE, NM 87105 | 40 | 227,990
OH: HENRY MHA | 1044 CHELSEA AVE., NAPOLEON, OH 43545 | 30 | 17,209
OK: OKLAHOMA HOUSING FINANCE AGENCY | P.O. BOX 26720 100 NW., 63RD ST., SUITE 200, OKLAHOMA CITY, OK 73126 | 96 | 270,346
PA: ALLENTOWN HOUSING AUTHORITY | 1339 ALLEN STREET, ALLENTOWN, PA 18102 | 20 | 48,031
PA: JOHNSTOWN HOUSING AUTHORITY | 501 CHESTNUT ST., P.O. BOX 419, JOHNSTOWN, PA 15907 | 18 | 26,022
RQ: PUERTO RICO HOUSING FINANCE CORP | CALL BOX 71361—GPO, SAN JUAN, PR 00936 | 76 | 235,726
SC: CITY OF SPARTANBURG H/A | P.O. BOX 2828, SPARTANBURG, SC 29304 | 20 | 51,437
TN: MEMPHIS HOUSING AUTHORITY | P.O. BOX 3664, MEMPHIS, TN 38103 | 22 | 94,340
TN: METRO DEVELOPMNT & HSG AGNCY | 701 SOUTH SIXTH STREET, P.O. BOX 846, NASHVILLE, TN 37202 | 110 | 494,386
TX: HOUSING AUTHORITY OF EL PASO | 5300 PAISANO, EL PASO, TX 79905 | 6 | 21,468
TX: CORPUS CHRISTI HOUSING AUTHORITY | 3701 AYERS STREET, CORPUS CHRISTI, TX 78415 | 66 | 230,750
TX: HOUSING AUTHORITY OF WACO | 4400 COBBS DRIVE, WACO, TX 76703 | 96 | 382,080
TX: GRAND PRAIRIE HSNG & COMM DEV | P.O. BOX 534045 201 NW. 2ND. ST., SUITE 150, GRAND PRAIRIE, TX 75053 | 85 | 398,977
WA: SEATTLE HOUSING AUTHORITY | 120 SIXTH AVENUE NORTH, P.O. BOX 19028, SEATTLE, WA 98109 | 0 | 30,062
WA: KING COUNTY HOUSING AUTHORITY | 600 ANDOVER PARK WEST, SEATTLE, WA 98188 | 40 | 35,366
WA: HSG AUTHORITY OF SNOHOMISH COUNTY | 12625 4TH AVE. W., SUITE 200, EVERETT, WA 98204 | 44 | 194,185
WI: DUNN COUNTY HA | 1421 STOUT ROAD, MENOMONIE, WI 54751 | 6 | 11,753
WI: WISCONSIN HOUSING & ECONOMIC DEVELOPMENT AUTHORITY | P.O. BOX 1728, MADISON, WI 53701 | 5 | 14,422
WV: PARKERSBURG HOUSING AUTHORITY | 1901 CAMERON AVENUE, PARKERSBURG, WV 26101 | 25 | 37,045
WV: JACKSON HOUSING AUTHORITY | WHISPERING WAY—TANGLEWOOD VILL, RIPLEY, WV 25271 | 3 | 5,053
WY: HSG AUT OF THE CITY OF CHEYENNE | 3304 SHERIDAN AVENUE, CHEYENNE, WY 82009 | 9 | 26,987
Total for Termination/Opt-out Vouchers |  | 1,753 | 7,083,115
Total for Multifamily Housing TPVs |  | 13,837 | 81,395,847
CPD TPVs
SRO—Relocation/Replacement
ND: BURLEIGH COUNTY HOUSING AUTHORITY | 410 SOUTH 2ND STREET, BISMARCK, ND 58504 | 23 | 104,013
OH: CUYAHOGA MHA | 8120 KINSMAN ROAD, CLEVELAND, OH 44104 | 1 | 6,427
Total for SRO—Relocation/Replacement |  | 24 | 110,440
Total for CPD TPVs |  | 24 | 110,440
Grand Total |  | 16,515 | 96,743,318

[FR Doc. 2016-07070 Filed 3-28-16; 8:45 am]

BILLING CODE 4210-67-P